FEDERAL MARITIME COMMISSION

Ocean Transportation Intermediary License Applicants

Notice is hereby given that the following applicants have filed with the Federal Maritime Commission an application for license as a Non-Vessel-Operating Common Carrier and Ocean Freight Forwarder-Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Benco Shipping International, LLC, 9450 Skillman Street, Suite 101, Dallas, TX 75243, Ben C. Ukwu, Managing Member, Sole Proprietor.

Mercury Cargo Services, Inc., 14547 Titus Street, Suite 203, Panorama City, CA 91402, Officers: Pedro Tandoc, President, (Qualifying Individual), Jun Soriano, Vice President.

Ocean Freight Forwarder-Ocean Transportation Intermediary Applicant

Thomas Griffin International, Inc., 15903 Kent Ct., Tampa, FL 33647-1402, Officer: Thomas Griffin, President, (Qualifying Individual).

Dated: August 25, 2006.
Bryant L. VanBrakle,
Secretary.

[FR Doc. E6-14455 Filed 8-29-06; 8:45 am]

BILLING CODE 6730-01-P